DEPARTMENT OF AGRICULTURE

Forest Service

Mountaintop Ranger District, San Bernardino National Forest, CA; Moonridge Animal Park Relocation

AGENCY: Forest Service, USDA.

ACTION: Notice of intent to prepare an environmental impact statement.

SUMMARY: The San Bernardino National Forest is seeking public input and comment on a proposed animal park, which would be located near the Big Bear Discovery Center. The project is called the Moonridge Animal Park Relocation. The proposed action will be defined in the Special Use Permit application and draft Master Plan to be developed by Big Bear Valley Recreation and Parks District. A proposed Joint Venture Management Plan is a guiding document for the permit and the operating plan. The proposed concept design would occupy about 35 acres more or less of National Forest System (NFS) land. New facilities would include zoological and botanical gardens with habitat, education center, classrooms, animal exhibits, animal hospital and rehabilitation center, restrooms, retail and concession buildings, support buildings, and paved parking for approximately 250 cars.

DATES: Comments concerning the scope of the analysis must be received by (30 days from the date of the NOI) July 14, 2006. The draft environmental impact statement is expected December, 2006 and the final environmental impact statement is expected April, 2007.

ADDRESSES: Send written comments to Paul W. Bennett, Recreation Officer, Mountaintop Ranger District, San Bernardino National Forest, P.O. Box 290, Fawnskin, CA 92333. For further information, mail correspondence to: Paul W. Bennett, Recreation Officer, Mountaintop Ranger District, San Bernardino National Forest, P.O. Box 290, Fawnskin, CA 92333. Or e-mail to pwbennett@fs.fed.us. Or telephone (909) 382-2819.

FOR FURTHER INFORMATION CONTACT: Richard M. Thornburgh, Environmental Coordinator, San Bernardino National Forest Service, 602 S. Tippecanoe, San Bernardino, CA 92408, (909) 382-2642.

SUPPLEMENTARY INFORMATION:

Purpose and Need for action

The purpose and need for action is for the San Bernardino National Forest to respond to a request from the Big Bear Valley Recreation and Parks District, a Special District of San Bernardino County, for a special use permit to occupy National Forest Service lands to operate a wild animal park and associated facilities. The Recreation and Parks District is proposing to relocate the animal park to the North Shore of Big Bear Lake adjacent to the Big Bear Discovery Center on the Mountaintop Ranger District of the San Bernardino National Forest. The project would occupy approximately 35 acres of National Forest lands, and not more than 40 acres. No new groundwater extraction would be allowed in connection with this project, in order to protect nearby meadow habitats. The type of use requested is consistent with the Forest Plan direction. The action is needed now because the Moonridge Animal Park's current lease expires in February 2009 and all facilities must be removed from that site by then. Alternate sites were evaluated and no other feasible site was found. Additionally, there is a joint-venture opportunity for environmental education objectives with the Forest Service's Big Bear Discovery Center.

Proposed Action

The Moonridge Animal Park is currently located on private land in the Moonridge area of Big Bear Valley. The Recreation and Park District's lease expires in February 2009. The District looked at several potential locations for the animal park, and determined that the area adjacent to the Big Bear Discovery Center best met their needs. The Recreation and Parks District has applied for a special use permit to build and maintain the new animal park and associated facilities on approximately 35 acres. If approved, the permit would be issued for a 20-30 year term.

New facilities would include zoological and botanical gardens, education center and classrooms, animal exhibits, animal hospital and rehabilitation center, restrooms, retail and concession buildings, support buildings, and paved parking for visitors and staff. Water and sewer would be connected to the community systems. The Big Bear Department of Water and Power water line would be extended from the Municipal Water District East Launch Ramp to the site. No additional water wells would be drilled in connection with this project. Night lighting would be provided for security purposes. A perimeter fence would be installed around the entire animal park.

Lead and Cooperating Agencies

The San Bernardino National Forest is the lead agency this analysis. San Bernardino County is a cooperating agency.

Responsible Official

The Forest Supervisor of the San Bernardino National Forest.

Nature of Decision To Be Made

To approve in whole, or in part, or a modified special use application for the relocation of the Moonridge Animal Park to national forest system lands.

Scoping Process

A scoping letter is being mailed to known potentially interested or affected parties. A legal notice announcing this project is being published in the San Bernardino Sun which is the Forest's newspaper of record. A scoping meeting will be held on June 17, 2006 from 1 p.m. to 4 p.m. at the Big Bear Discovery Center in Fawnskin, California.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 30 day comment period for initial scoping and 45 days on the Draft Environmental Impact Statement so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedure provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: June 8, 2006.
Jeanne Wade Evans,
Forest Supervisor.

[FR Doc. 06-5397 Filed 6-13-06; 8:45 am]

BILLING CODE 3410-11-M